DEPARTMENT OF EDUCATION

Applications for New Awards; Promise Neighborhoods Program

AGENCY: Office of Innovation and Improvement, Department of Education.

ACTION: Notice.

SUMMARY: The Department of Education is issuing a notice inviting applications for new awards for fiscal year (FY) 2017 for the Promise Neighborhoods Program—Grant Competition, Catalog of Federal Domestic Assistance (CFDA) number 84.215N.

DATES: Applications Available: July 21, 2017.

Deadline for Notice of Intent to Apply: August 21, 2017.

Date of Pre-Application Webinars: The Promise Neighborhoods team intends to hold pre-application webinars to provide technical assistance to interested applicants. Detailed information regarding these webinar times will be provided on the Promise Neighborhoods' Web site at https://innovation.ed.gov/what-we-do/parental-options/promise-neighborhoods-pn/.

Deadline for Transmittal of Applications: September 5, 2017.

Deadline for Intergovernmental Review: November 3, 2017.

FOR FURTHER INFORMATION CONTACT: Adrienne Hawkins, U.S. Department of Education, 400 Maryland Avenue SW., Room 4W256, Washington, DC 20202. Telephone: (202) 453-5638 or by email: PromiseNeighborhoods@ed.gov.

If you use a telecommunications device for the deaf (TDD) or a text telephone (TTY), call the Federal Relay Service (FRS), toll free, at 1-800-877-8339.

SUPPLEMENTARY INFORMATION:

Full Text of Announcement

I. Funding Opportunity Description

Purpose of Program

The Promise Neighborhoods program is newly authorized under the Elementary and Secondary Education Act of 1965 (ESEA), as amended by the Every Student Succeeds Act (ESSA). The purpose of the Promise Neighborhoods program is to significantly improve the academic and developmental outcomes of children living in the most distressed communities of the United States, including ensuring school readiness, high school graduation, and access to a community-based continuum of high-quality services. The program serves neighborhoods with high concentrations of low-income individuals; multiple signs of distress, which may include high rates of poverty, childhood obesity, academic failure, and juvenile delinquency, adjudication, or incarceration; and schools implementing comprehensive support and improvement activities or targeted support and improvement activities under section 1111(d) of the ESEA. All strategies in the continuum of solutions must be accessible to children with disabilities and English learners.

Background

The vision of the Promise Neighborhoods program is that all children and youth living in our most distressed communities have access to great schools and strong systems of family and community support that will prepare them to attain an excellent education and successfully transition to postsecondary education and a career.

A Promise Neighborhood is both a place and a strategy. A place eligible to become a Promise Neighborhood is a geographic area ¹ that is distressed, often facing inadequate access to high-quality early learning programs and services, with struggling schools, low high school and college graduation rates, high rates of unemployment, high rates of crime, and indicators of poor health. These conditions contribute to and intensify the negative outcomes associated with children and youth living in poverty.

¹ For the purpose of this notice, the Department uses the terms “geographic area” and “neighborhood” interchangeably.

A Promise Neighborhood strategy addresses the complex, interconnected issues in the distressed community it serves. Promise Neighborhoods are led by organizations, such as nonprofit organizations, institutions of higher education, offices of chief elected officials of local governments, or Indian Tribes or Tribal organizations, that work to ensure that all children and youth in the target geographic area have access to services that lead to improved educational and developmental outcomes from cradle-to-career. The organizations ensure that services are based on the best available evidence and employ robust data collection and management systems to learn about the impact of approaches for which there is less evidence; that services are linked and integrated seamlessly; and that services include education programs as well as programs that provide family and community supports. Promise Neighborhoods enable children and youth within targeted distressed communities to participate in the full range of cradle-to-career supports that are necessary for them to realize their potential. The Department of Education's expectation is that over time, a greater proportion of the neighborhood residents receive these supports and that neighborhood indicators (see Table 1) show significant progress. For this reason, each Promise Neighborhood applicant must demonstrate several core features: (1) Significant need in the neighborhood; (2) a strategy to build pipeline services (as defined in this notice) with strong schools at the center; and (3) the organizational and relational capacity to achieve results.

This year's Promise Neighborhoods competition is different from previous years' competitions in several ways. The Promise Neighborhoods program, under the ESEA as amended by ESSA, requires applicants to propose the use of not less than 50 percent of grant funds in year one, and not less than 25 percent in year two, to support planning activities for the development and implementation of pipeline services. Because applicants must now propose to use grant funds for limited planning activities, the Department will no longer award separate Promise Neighborhoods planning and implementation grants. The priorities and some program requirements for this year's competition have also changed from previous competitions. In this year's competition, we introduce new data and performance management requirements while continuing to prioritize evidence-based (see section 8101(21) of the ESEA) activities and programs. Previously funded Promise Neighborhoods grantees have struggled to conduct meaningful data collection and evaluation activities, which include collecting the full range of data necessary to effectively employ comprehensive case and longitudinal data management systems. Such data systems are critical to effectively coordinate a range of services for high-need students and their families within a Promise Neighborhood. In response to this challenge, we now require applicants to address specific data collection and performance management requirements.

In addressing these requirements, we strongly encourage applicants to review a publication released by the Department in 2013 entitled, “Measuring Performance: A Guidance Document for Promise Neighborhoods on Collecting Data and Reporting Results.” ² This publication provides guidance on Promise Neighborhoods case management and longitudinal data systems; data collection strategies, sources, and methods; and data tracking and reporting procedures.

² https://www2.ed.gov/programs/promiseneighborhoods/pndataguidance.pdf.

Priorities: This competition includes three absolute priorities and four competitive preference priorities. The three absolute priorities focus on the types of neighborhoods or geographic areas that the proposed project will serve. Absolute Priority 1 is focused on non-rural and non-Tribal applicants; Absolute Priority 2 is focused on rural communities; and Absolute Priority 3 is focused on Tribal communities.

Absolute Priorities: We are establishing Absolute Priorities 1, 2, and 3 for the FY 2017 grant competition and any subsequent year in which we make awards from the list of unfunded applications from this competition in accordance with section 437(d)(1) of the General Education Provisions Act (GEPA). Applicants should indicate in their application whether they are applying under Absolute Priority 1, Absolute Priority 2, or Absolute Priority 3. If an applicant applies under Absolute Priority 2 or Absolute Priority 3 and is deemed ineligible, the application still may be considered for funding under Absolute Priority 1. The Secretary prepares a rank order of applications for each absolute priority based solely on the evaluation of their quality according to the selection criteria.

Each of the three absolute priorities constitutes its own funding category. Assuming that applications in each funding category are of sufficient quality, the Secretary intends to award grants under each absolute priority.

Under 34 CFR 75.105(c)(3) we consider only applications that meet one or more of these priorities.

These priorities are:

Absolute Priority 1—Promise Neighborhoods in Non-Rural and Non-Tribal Communities.³

³ An applicant that serves one or more non-rural or non-Tribal communities will not be disqualified because it also proposes to serve rural or Tribal communities.

To meet this priority, an applicant must propose to implement a Promise Neighborhood strategy that serves one or more non-rural or non-Tribal communities.

Absolute Priority 2—Promise Neighborhoods in Rural Communities.

To meet this priority, an applicant must propose to implement a Promise Neighborhood strategy that serves one or more rural communities (as defined in this notice) only.

Under section 4623 of the ESEA, the Department will use at least 15 percent of the funds available for the Promise Neighborhoods program to award grants to eligible entities (as defined in this notice) that propose to carry out the Promise Neighborhoods activities in rural areas. The Department will reduce the funds reserved for rural areas if we do not receive enough applications of sufficient quality.

Absolute Priority 3—Promise Neighborhoods in Tribal Communities.

To meet this priority, an applicant must propose to implement a Promise Neighborhood strategy that serves one or more Indian Tribes (as defined in this notice).

Competitive Preference Priorities: We are establishing Competitive Preference Priorities 1 and 2 for the FY 2017 grant competition and any subsequent year in which we make awards from the list of unfunded applications from this competition in accordance with section 437(d)(1) of the GEPA, 20 U.S.C. 1232(d)(1). Competitive Preference Priority 3 is from section 4624 of the ESEA, as amended by the ESSA, 20 U.S.C. 7231e. Competitive Preference Priority 4 is from the Promise Zones notice of final priority published in the Federal Register on March 27, 2014 (79 FR 17035) (Promise Zones NFP).

For FY 2017 and any subsequent year in which we make awards from the list of unfunded applications from this competition, these priorities are competitive preference priorities. Under 34 CFR 75.105(c)(2)(i), we award an additional three points to an application that meets Competitive Preference Priority 1; we award three additional points to an application that meets Competitive Preference Priority 2; we award one additional point to an application that meets Competitive Preference Priority 3; and we award one additional point to an application that meets Competitive Preference Priority 4.

Applicants may address all of the competitive preference priorities. Also, applicants should identify on the abstract form and in the project narrative section of their application which competitive preference priority or priorities the applicants address. We will not award competitive preference priority points to an application that fails to clearly identify the competitive preference priority or priorities it wishes the Department to consider for purposes of earning the competitive preference priority points.

These priorities are:

Competitive Preference Priority 1—Byrne Criminal Justice Innovation (BCJI) Program (0 or 3 points).

To meet this priority, an applicant must propose to serve geographic areas that were the subject of a targeted strategy addressing crime in a specific community pursuant to a BCJI grant awarded by the U.S. Department of Justice during FY 2012 or later years. To be eligible under this priority, the applicant must either: (1) Be able to demonstrate that it has received a BCJI grant; or (2) provide, in its application, a memorandum of understanding between it and a partner that is a recipient of a BCJI grant. The memorandum of understanding must indicate a commitment on the part of the applicant and partner to coordinate implementation and align resources to the greatest extent practicable.

Competitive Preference Priority 2—Drug Free Communities (DFC) Support Program (0 or 3 points).

To receive points under this priority, the applicant must either: (1) Demonstrate that it has received a DFC grant to prevent opioid abuse (as one of its areas of focus); or (2) provide, in its application, a memorandum of understanding between it and a partner that is a recipient of a DFC grant to address opioid abuse prevention as one of its areas of focus.

Competitive Preference Priority 3—Evidence-Based Activities, Strategies, or Interventions (0 or 1 point).

To meet this priority, an applicant must propose to carry out evidence-based activities, strategies, or interventions that, based on information included in their application, are supported by promising evidence (as defined in this notice).

Competitive Preference Priority 4—Promise Zones (0 or 1 point).

This priority is for projects that are designed to serve and coordinate with a federally designated Promise Zone.

To meet this priority, an applicant must include a Certification of Consistency with Promise Zone Goals and Implementation (HUD Form 50153) signed by an authorized representative of the lead organization of a Promise Zone designated by the Department of Housing and Urban Development (HUD) or the United States Department of Agriculture. An application for Promise Neighborhoods grant funds that is not accompanied by a signed certification (HUD Form 50153) will receive zero points for this priority. The certification form is available at //portal.hud.gov/hudportal/documents/huddoc?id=HUD_Form_50153.pdf. To view the list of designated Promise Zones and lead organizations please go to www.hud.gov/promisezones.

Definitions

The definition of “strong theory” is from 34 CFR 77.1. The remaining definitions are established in accordance with section 437(d)(1) of GEPA, 20 U.S.C. 1232(d)(1).

The following definitions apply to this program:

Eligible entity means an organization that:

(1) Is representative of the geographic area (as defined in this notice) proposed to be served;

(2) Operates or proposes to work with and involve in carrying out its proposed project, in coordination with the school's local educational agency (LEA), at least one public elementary or secondary school that is located within the identified geographic area that the grant will serve;

(3) Is one of the following:

(a) An institution of higher education, as defined in section 102 of the Higher Education Act of 1965, as amended (HEA) (20 U.S.C. 1002);

(b) An Indian Tribe or Tribal organization, as defined in section 4 of the Indian Self-Determination and Education Assistance Act (25 U.S.C. 5304); or

(c) One or more nonprofit entities working in formal partnership with not less than one of the following entities:

i. A high-need LEA.

ii. An institution of higher education, as defined in section 102 of the HEA (20 U.S.C. 1002).

iii. The office of a chief elected official of a unit of local government.

iv. An Indian Tribe or Tribal organization, as defined under section 4 of the Indian Self-Determination and Education Assistance Act (25 U.S.C. 5304); and

(4) Currently provides at least one of the solutions from the applicant's proposed pipeline services in the geographic area proposed to be served.

Experimental study means a study, such as a randomized controlled trial (RCT) (as defined in this notice), that is designed to compare outcomes between two groups of individuals that are otherwise equivalent except for their assignment to either a treatment group receiving a project component (as defined in this notice) or a control group that does not. In some circumstances, a finding from a regression discontinuity design study (RDD) (as defined in this notice) or findings from a collection of single-case design studies (SCDs) (as defined in this notice) may be considered equivalent to a finding from an RCT. RCTs, RDDs, and collections of SCDs, depending on design and implementation, can Meet What Works Clearinghouse Evidence Standards without reservations.

Graduation rate means the four-year or extended-year adjusted cohort graduation rate as defined by 34 CFR 200.19(b)(1).

Note: This definition is not meant to prevent a grantee from also collecting information about the reasons why students do not graduate from the target high school, e.g., dropping out or moving outside of the school district for non-academic or academic reasons.

Indian Tribe means an Indian Tribe or Tribal organization, as defined in section 4 of the Indian Self-Determination and Education Assistance Act (25 U.S.C. 5304)

Indicators of need means currently available data that describe—

(1) Education need, which means—

(a) All or a portion of the neighborhood includes or is within the attendance zone of a low-performing school that is a high school, especially one in which the graduation rate (as defined in this notice) is less than 60 percent or a school that can be characterized as low-performing based on another proxy indicator, such as students' on-time progression from grade to grade; and

(b) Other indicators, such as significant achievement gaps between subgroups of students (as identified in section 1111(b)(2)(B)(xi) of the ESEA) within a school or LEA, high teacher and principal turnover, or high student absenteeism; and

(2) Family and community support need, which means—

(a) Percentages of children with preventable chronic health conditions (e.g., asthma, poor nutrition, dental problems, obesity) or avoidable developmental delays;

(b) Immunization rates;

(c) Rates of crime, including violent crime;

(d) Student mobility rates;

(e) Teenage birth rates;

(f) Percentage of children in single-parent or no-parent families;

(g) Rates of vacant or substandard homes, including distressed public and assisted housing; or

(h) Percentage of the residents living at or below the Federal poverty threshold.

Logic model (also known as a theory of action) means a reasonable conceptual framework that identifies key components of the proposed project (i.e., the active “ingredients” that are hypothesized to be critical to achieving the relevant outcomes) and describes the theoretical and operational relationships among the key components and outcomes.

Meets What Works Clearinghouse Evidence Standards without reservations is the highest possible rating for a study finding reviewed by the What Works Clearinghouse (WWC). Studies receiving this rating provide the highest degree of confidence that an observed effect was caused by the project component studied. Experimental studies (as defined in this notice) may receive this highest rating. These standards are described in the WWC Procedures and Standards Handbooks, Version 3.0, which can be accessed at http://ies.ed.gov/ncee/wwc/Handbooks.

Meets What Works Clearinghouse Evidence Standards with reservations is the second-highest rating for a group design study reviewed by the WWC. Studies receiving this rating provide a reasonable degree of confidence that an observed effect was caused by the project component studied. Both experimental studies (such as randomized controlled trials with high rates of sample attrition) and quasi-experimental design studies (as defined in this notice) may receive this rating if they establish the equivalence of the treatment and comparison groups in key baseline characteristics. These standards are described in the WWC Procedures and Standards Handbooks, Version 3.0, which can be accessed at http://ies.ed.gov/ncee/wwc/Handbooks.

Pipeline services means a continuum of coordinated supports, services, and opportunities for children from birth through entry into and success in postsecondary education, and career attainment. Such services shall include, at a minimum, strategies to address through services or programs (including integrated student supports) the following:

(a) High-quality early childhood education programs.

(b) High-quality school and out-of-school-time programs and strategies.

(c) Support for a child's transition to elementary school, from elementary school to middle school, from middle school to high school, and from high school into and through postsecondary education and into the workforce, including any comprehensive readiness assessment determined necessary.

(d) Family and community engagement and supports, which may include engaging or supporting families at school or at home.

(e) Activities that support postsecondary and work-force readiness, which may include job training, internship opportunities, and career counseling.

(f) Community-based support for students who have attended the schools in the area served by the pipeline, or students who are members of the community, facilitating their continued connection to the community and success in postsecondary education and the workforce.

(g) Social, health, nutrition, and mental health services and supports.

(h) Juvenile crime prevention and rehabilitation programs.

Project component means an activity, strategy, or intervention included in a project. Evidence (as this term is used in this notice) may pertain to an individual project component, or to a combination of project components (e.g., training teachers on instructional practices for English learners and follow-on coaching for these teachers).

Promising evidence means the following conditions are met:

(a) There is at least one study that is a correlational study with statistical controls for selection bias with a relevant finding (quasi-experimental design studies or experimental studies may also qualify); and

(b) The relevant finding in the study described in paragraph (a) is of a statistically significant and positive (i.e., favorable) effect of the project component on a student outcome or other relevant outcome with no statistically significant and overriding negative (i.e., unfavorable) evidence on that project component from other findings on the intervention reviewed by and reported in the What Works Clearinghouse that Meet What Works Clearinghouse Evidence Standards with or without reservations.

Public officials means elected officials (e.g., council members, aldermen and alderwomen, commissioners, State legislators, Congressional representatives, members of the school board), appointed officials (e.g., members of a planning or zoning commission, or of any other regulatory or advisory board or commission), or individuals who are not necessarily public officials (as defined in this notice), but who have been appointed by a public official to serve on the Promise Neighborhoods governing board or advisory board.

Quasi-experimental design study means a study using a design that attempts to approximate an experimental design by identifying a comparison group that is similar to the treatment group in important respects. This type of study, depending on design and implementation, can Meet What Works Clearinghouse Evidence Standards with reservations (but not without reservations).

Randomized controlled trial (RCT) means a study that employs random assignment of, for example, students, teachers, classrooms, or schools to receive the project component being evaluated (the treatment group) or not to receive the project component (the control group). The estimated effectiveness of the project component is the difference between the average outcomes for the treatment group and for the control group. These studies, depending on design and implementation, can Meet What Works Clearinghouse Evidence Standards without reservations.

Regression discontinuity design study (RDD) means a study that assigns the project component being evaluated using a measured variable (e.g., assigning students reading below a cutoff score to tutoring or developmental education classes) and controls for that variable in the analysis of outcomes. The effectiveness of the project component is estimated for individuals who barely qualify to receive that component. These studies, depending on design and implementation, can Meet What Works Clearinghouse Evidence Standards without reservations.

Relevant finding means a finding from a study regarding the relationship between (A) an activity, strategy, or intervention included as a component of the logic model (as defined in this notice) for the proposed project, and (B) a student outcome or other relevant outcome included in the logic model for the proposed project.

Relevant outcome means the student outcome(s) (or the ultimate outcome if not related to students) the proposed project component is designed to improve, consistent with the specific goals of a program.

Representative of the geographic area proposed to be served means that residents of the geographic area proposed to be served have an active role in decision-making and that at least one-third of the eligible entity's (as defined in this notice) governing board or advisory board is made up of—

(1) Residents who live in the geographic area proposed to be served, which may include residents who are representative of the ethnic and racial composition of the neighborhood's residents and the languages they speak;

(2) Residents of the city or county in which the neighborhood is located but who live outside the geographic area proposed to be served, and who are low-income (which means earning less than 80 percent of the area's median income as published by HUD);

(3) Public officials (as defined in this notice) who serve the geographic area proposed to be served (although not more than one-half of the governing board or advisory board may be made up of public officials); or

(4) Some combination of individuals from the three groups listed in paragraphs (1), (2), and (3) of this definition.

Rural community means a neighborhood that—

(1) Is served by an LEA that is currently eligible under the Small Rural School Achievement (SRSA) program or the Rural and Low-Income School (RLIS) program authorized under Title VI, Part B of the ESEA. Applicants may determine whether a particular LEA is eligible for these programs by referring to information on the following Department Web sites. For the SRSA program: https://www2.ed.gov/programs/reapsrsa/eligible16/index.htmlFor the RLIS program: https://www2.ed.gov/programs/reaprlisp/eligibility.html; or

(2) Includes only schools designated with a school locale code of 41, 42, or 43. Applicants may determine school locale codes by referring to the following Department Web site: http://nces.ed.gov/ccd/schoolsearch/.

Segmentation analysis means the process of grouping and analyzing data from children and families in the geographic area proposed to be served according to indicators of need (as defined in this notice) or other relevant indicators. The analysis is intended to allow grantees to differentiate and more effectively target interventions based on what they learn about the needs of different populations in the geographic area.

Single-case design study (SCD) means a study that uses observations of a single case (e.g., a student eligible for a behavioral intervention) over time in the absence and presence of a controlled treatment manipulation to determine whether the outcome is systematically related to the treatment. According to the WWC Single Case Design Pilot Standards, a collection of these studies, depending on design and implementation (e.g., including a sufficient number of cases and of data points per condition), can Meet What Works Clearinghouse Evidence Standards without reservations.

Strong theory means a rationale for the proposed process, product, strategy, or practice that includes a logic model.

Student achievement means—

(1) For tested grades and subjects:

(a) A student's score on the State's assessments under the ESEA; and, as appropriate,

(b) Other measures of student learning, such as those described in paragraph (2) of this definition, provided they are rigorous and comparable across classrooms and programs.

(2) For non-tested grades and subjects: Alternative measures of student learning and performance, such as student scores on pre-tests and end-of-course tests; student performance on English language proficiency assessments; and other measures of student achievement that are rigorous and comparable across classrooms.

Student mobility rate is calculated by dividing the total number of new student entries and withdrawals at a school, from the day after the first official enrollment number is collected through the end of the academic year, by the first official enrollment number of the academic year.

Note: This definition is not meant to limit a grantee from also collecting information about why students enter or withdraw from the school, e.g., transferring to charter schools, moving outside of the school district for non-academic or academic reasons.

Waiver of Proposed Rulemaking: Under the Administrative Procedure Act (5 U.S.C. 553) the Department generally offers interested parties the opportunity to comment on proposed priorities, selection criteria, definitions, and other requirements. Section 437(d)(1) of GEPA, however, allows the Secretary to exempt from rulemaking requirements, regulations governing the first grant competition under a new or substantially revised program authority. This is the first grant competition for this program under section 4623-4624 of the ESEA, 20 U.S.C. 7273-7274, and therefore qualifies for this exemption. In order to ensure timely grant awards, the Secretary has decided to forgo public comment on the priorities, requirements, definitions, and selection criteria under section 437(d)(1) of GEPA. These priorities, requirements, definitions, and selection criteria will apply to the FY 2017 grant competition and any subsequent year in which we make awards from the list of unfunded applications from this competition.

Program Authority: 20 U.S.C. 7273-7274.

Applicable Regulations: (a) The Education Department General Administrative Regulations (EDGAR) in 34 CFR parts 75, 77, 79 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) Promise Zones NFP.

Note: The regulations in 34 CFR part 79 apply to all applicants except federally recognized Indian Tribes.

Note: The regulations in 34 CFR part 86 apply to institutions of higher education only.

II. Award Information

Type of Award: Discretionary grants.

Estimated Available Funds: $30,000,000.

Contingent upon the availability of funds and the quality of applications, we may make additional awards in subsequent years from the list of unfunded applications from this competition.

Estimated Range of Awards: $4,000,000 to $6,000,000.

Estimated Average Size of Awards: $5,000,000.

Maximum Award: $6,000,000.

The maximum award amount is $6,000,000 per 12-month budget period. We will not fund an annual budget exceeding $6,000,000 per 12-month budget period.

Estimated Number of Awards: 5-7.

Note: The Department is not bound by any estimates in this notice.

Project Period: Up to 60 months.

Under section 4623 of the ESEA, a grant awarded under this competition will be for a period of not more than five years, and may be extended for an additional period of not more than two years. In addition, continued funding of a grant under this competition, including an extended grant, after the third year of the initial grant period will be contingent on the eligible entity's progress toward meeting the performance metrics and annual performance objectives and outcomes under section 4625(a)(4)(C) of the ESEA.

III. Eligibility Information

1. Eligible Applicants: Under section 4623 of the ESEA, an eligible organization must:

(1) Be representative of the geographic area proposed to be served;

(2) Operate or propose to work with and involve in carrying out its proposed project, in coordination with the school's LEA, at least one public elementary or secondary school that is located within the identified geographic area that the grant will serve;

(3) Be one of the following:

(a) An institution of higher education, as defined in section 102 of the HEA (20 U.S.C. 1002);

(b) An Indian Tribe or Tribal organization, as defined in section 4 of the Indian Self-Determination and Education Assistance Act (25 U.S.C. 5304); or

(c) One or more nonprofit entities working in formal partnership with not less than one of the following entities:

i. A high-need LEA.

ii. An institution of higher education, as defined in section 102 of the HEA (20 U.S.C. 1002).

iii. The office of a chief elected official of a unit of local government.

iv. An Indian Tribe or Tribal organization, as defined under section 4 of the Indian Self-Determination and Education Assistance Act (25 U.S.C. 5304); and

(4) Currently provide at least one of the solutions from the applicant's proposed pipeline services in the geographic area proposed to be served.

2. Cost-Sharing or Matching: To be eligible for a grant under this competition, an applicant must demonstrate a commitment from one or more entities in the public or private sector, which may include Federal, State, and local public agencies, philanthropic organizations, private businesses, or individuals, to provide matching funds. An applicant proposing a project that meets Absolute Priority 1—Promise Neighborhoods in Non-rural and Non-Tribal Communities must obtain matching funds or in-kind donations equal to at least 100 percent of its grant award. An applicant proposing a project that meets Absolute Priority 2—Promise Neighborhoods in Rural Communities or Absolute Priority 3—Promise Neighborhoods in Tribal Communities must obtain matching funds or in-kind donations equal to at least 50 percent of its grant award.

Eligible sources of matching funds include sources of funds used to pay for solutions within the pipeline services, initiatives supported by the LEA, or public health services for children in the neighborhood. At least 10 percent of an applicant's total match must be cash or in-kind contributions from the private sector, which may include philanthropic organizations, private businesses, or individuals.

Applicants must demonstrate a commitment of matching funds in the application. Applicants must specify the source of the funds or contributions and in the case of a third-party in-kind contribution, a description of how the value was determined for the donated or contributed goods or service. Applicants must demonstrate the match commitment by including letters in their applications explaining the type and quantity of the match commitment with original signatures from the executives of organizations or agencies providing the match.

The Secretary may consider decreasing the matching requirement in the most exceptional circumstances, on a case-by-case basis. An applicant that is unable to meet the matching requirement must include in its application a request to the Secretary to reduce the matching requirement, including the amount of the requested reduction, the total remaining match contribution, and a statement of the basis for the request. The Secretary will grant this request only if an applicant demonstrates a significant financial hardship. An applicant should review the Department's cost-sharing and cost-matching regulations, which include specific limitations, in 2 CFR 200.306 and the cost principles regarding donations, capital assets, depreciations and allowable costs, set out in subpart E of 2 CFR part 200.

3. Application Requirements: Each applicant that receives a grant award for the Promise Neighborhoods competition must use the grant funds to implement the pipeline services and continuously evaluate the success of the program and improve the program based on data and outcomes. Applicants may use not less than 50 percent of grant funds in year one, and not less than 25 percent of grant funds in year two for planning activities to develop and implement pipeline services.

Under section 4624 of the ESEA, as amended by the ESSA, applicants must submit and address the following:

(1) A plan to significantly improve the academic outcomes of children living in the geographically defined area (neighborhood) that is served by the eligible entity by providing pipeline services that address the needs of children in the neighborhood, as identified by the needs analysis; and that is supported by effective practices.

(2) A description of the neighborhood the eligible entity will serve. Applicants may propose to serve multiple, non-contiguous geographically defined areas. In cases where target areas are non-contiguous, the applicant must explain its rationale for including non-contiguous areas.

(3) An analysis of the needs and assets of the neighborhood, including:

(a) The size and scope of the population affected;

(b) A description of the process through which the needs analysis was produced, including a description of how parents, families, and community members were engaged in such analysis;

(c) An analysis of community assets and collaborative efforts (including programs already provided from Federal and non-Federal sources) within, or accessible to, the neighborhood, including, at a minimum, early learning opportunities, family and student supports, local businesses, local educational agencies, and institutions of higher education;

(d) The steps that the eligible entity is taking at the time of the application to address the needs identified in the needs analysis; and

(e) Any barriers the eligible entity, public agencies, and other community-based organizations have faced in meeting such needs.

(4) A description of all information the entity used to identify the pipeline services to be provided, which shall not include information that is more than 3 years old. This description should address how the eligible entity plans to collect data on children served by each pipeline service; and increase the percentage of children served over time.

(5) A description of the process used to develop the Promise Neighborhoods application, including the involvement of family and community members.

(6) A description of how the pipeline services will facilitate the coordination of the following activities:

(a) Providing early learning opportunities for children, including by:

(i) Providing opportunities for families to acquire the skills to promote early learning and child development; and

(ii) Ensuring appropriate diagnostic assessments and referrals for children with disabilities and children aged 3 through 9 experiencing developmental delays, consistent with the Individuals with Disabilities Education Act (20 U.S.C. 1400 et seq.), where applicable.

(b) Supporting, enhancing, operating, or expanding rigorous, comprehensive, effective educational improvements, which may include high-quality academic programs, expanded learning time, and programs and activities to prepare students for postsecondary education admissions and success.

(c) Supporting partnerships between schools and other community resources with an integrated focus on academics and other social, health, and familial supports.

(d) Providing social, health, nutrition, and mental health services and supports, for children, family members, and community members, which may include services provided within the school building.

(e) Supporting evidence-based programs (see section 8101(21) of the ESEA) that assist students through school transitions, which may include expanding access to postsecondary education courses and postsecondary education enrollment aid or guidance, and other supports for at-risk youth.

(7) A description of the strategies that will be used to provide pipeline services (including a description of which programs and services will be provided to children, family members, community members, and children within the neighborhood) to support the purpose of the Promise Neighborhoods program.

(8) An explanation of the process the eligible entity will use to establish and maintain family and community engagement, including:

(a) Involving representative participation by the members of such neighborhood in the planning and implementation of the activities of each grant awarded;

(b) The provision of strategies and practices to assist family and community members in actively supporting student achievement and child development;

(c) Providing services for students, families, and communities within the school building; and

(d) Collaboration with institutions of higher education, workforce development centers, and employers to align expectations and programming with postsecondary education and workforce readiness.

(9) An explanation of how the eligible entity will continuously evaluate and improve the continuum of high-quality pipeline services to provide for continuous program improvement and potential expansion.

(10) A commitment to collecting the required Promise Neighborhoods performance indicators' data; establishing the conditions for effective case and data management; and using data to improve program outcomes. In understanding the conditions necessary to collect, manage, and utilize data for Promise Neighborhoods, an applicant is required to:

(a) Hire dedicated staff to ensure its project has sufficient personnel and/or contractors to effectively manage its data collection activities, case management, and data systems;

(b) Submit a detailed data collection and reporting plan that includes a description of how it will conduct a bi-annual neighborhood survey of children and adults in the Promise Neighborhood; collect, at least annually, data on the performance indicators in Table 1; establish clear, annual targets and goals for growth on the performance indicators; and report those data to the Department annually;

Table 1—Promise Neighborhoods Performance Indicators
Result | Indicator | Source
1. Children enter kindergarten ready to succeed in school | 1. Number and percentage of children in kindergarten who demonstrate at the beginning of the program or school year age-appropriate functioning across multiple domains of early learning as determined using developmentally-appropriate early learning measures | Administrative data from LEA.
2. Students are proficient in core academic subjects | 2.1 Number and percentage of students at or above grade level according to State mathematics assessments in at least the grades required by the ESEA (3rd through 8th grades and once in high school) 2.2 Number and percentage of students at or above grade level according to State English language arts assessments in at least the grades required by the ESEA
3. Students successfully transition from middle school grades to high school | 3.1 Attendance rate of students in 6th, 7th, 8th, and 9th grade as defined by average daily attendance 3.2 Chronic absenteeism rate of students in 6th, 7th, 8th, and 9th grades
4. Youth graduate from high school | 4. Four-year adjusted cohort graduation rate
5. High school graduates obtain a postsecondary degree, certification or credential | 5.1 Number and percentage of Promise Neighborhood students who enroll in a two-year or four-year college or university after graduation 5.2 Number and percent of Promise Neighborhood students who graduate from a two-year or four-year college or university or vocational certification completion | Third party data such as the National Student Clearinghouse.
6. Students are healthy | Number and percentage of children who consume five or more servings of fruits and vegetables daily | Neighborhood survey, school climate survey or other reliable data source for population level data collection.
7. Students feel safe at school and in their community | 7. Number and percentage of children who feel safe at school and traveling to and from school as measured by a school climate survey
8. Students live in stable communities | 8. Student mobility rate (as defined in the notice)
9. Families and community members support learning in promise Neighborhood Schools | 9.1 Number and percentage of parents or family members that read to or encourage their children to read three or more times a week or reported their child read to themselves three or more times a week (birth-8th grade) 9.2 Number and percentage of parents/family members who report talking about the importance of college and career (9th-12th grade)
10. Students have access to 21st century learning tools | 10. Number and percentage of students who have school and home access to broadband internet and a connected computing device

Note: The indicators in Table 1 are not intended to limit an applicant from collecting and using data from additional Family and Community Support indicators proposed to the Department. Applicants are strongly encouraged, but not required, to propose additional performance indicators aligned to the specific pipeline services proposed in their application.

(c) Describe how it will develop a case management system to track key information and progress toward outcomes for individual children and adults participating in its Promise Neighborhoods programs and to facilitate communication and the coordination of services on behalf of these individuals; and

(d) Describe how it will develop and maintain a longitudinal data system to track outcome measures and other performance indicators over time (e.g., snapshots and extracts from the case management system at different points in time).

The established performance indicators for the Promise Neighborhoods program serve as indicators of improved academic and developmental outcomes for children, including indicators of school readiness, high school graduation, postsecondary education and career readiness, and other academic and developmental outcomes. Each grantee is required to collect and report data on the performance indicators annually. Subsequently, the Department will make a determination for continuation funding and grant extensions based on performance indicator outcomes and available funding.

(11) A commitment to work with the Department, and with a national evaluator for Promise Neighborhoods or another entity designated by the Department, to ensure that data collection and program design are consistent with plans to conduct a rigorous national evaluation of the Promise Neighborhoods program and of specific solutions and strategies pursued by individual grantees. This commitment must include, but need not be limited to—

(a) Ensuring that, through memoranda of understanding with appropriate entities, the national evaluator and the Department have—consistent with applicable privacy requirements—access to relevant program and project data sources (e.g., administrative data and program and project indicator data), including on a quarterly basis if requested by the Department;

(b) Developing, in consultation with the national evaluator, an evaluation strategy, including identifying a credible comparison group; and

(c) Developing, in consultation with the national evaluator, a plan for identifying and collecting reliable and valid baseline data for both program participants and a designated comparison group of non-participants.

(12) Each applicant must submit, as part of its application, a preliminary memorandum of understanding, signed by each organization or agency with which it would partner in implementing the proposed Promise Neighborhood. Within the preliminary memorandum of understanding, all applicants must detail each partner's financial, programmatic, and long-term commitment with respect to the strategies described in the application.

Under section 4624(c) of the ESEA, applicants that are non-profit entities must submit a preliminary memorandum of understanding signed by each partner entity or agency, which must include at least one of the following: A high-need LEA; an institution of higher education, as defined in section 102 of the HEA (20 U.S.C. 1002); the office of a chief elected official of a unit of local government; or an Indian Tribe or Tribal organization as defined in section 4 of the Indian Self-Determination and Education Assistance Act (25 U.S.C. 5304).

Each eligible entity that receives a grant under this program is required to prepare and submit an annual report to the Secretary that must include the following: (1) Information about the number and percentage of children in the neighborhood who are served by the grant program, including a description of the number and percentage of children accessing each support service offered as part of the pipeline of services; and (2) information relating to the metrics established under the Promise Neighborhood Performance Indicators.

In addition, grantees are required to make these data publicly available, including through electronic means. To the extent practicable, and as required by law, such information must be provided in a form and language accessible to parents and families in the neighborhood served under the Promise Neighborhoods grant. In addition, data on academic indicators pertinent to the Promise Neighborhoods program will, in most cases, already be part of statewide longitudinal data systems.

IV. Application and Submission Information

1. Address to Request Application Package: You can obtain an application package via the internet or from the Education Publications Center (ED Pubs). To obtain a copy via the internet, use the following address: www.ed.gov/fund/grant/apply/grantapps/. To obtain a copy from ED Pubs, write, fax, or call: ED Pubs, U.S. Department of Education, P.O. Box 22207, Alexandria, VA 22304. Telephone, toll free: 1-877-433-7827. FAX: (703) 605-6794. If you use a TDD or a TTY, call FRS, toll free: 1-877-576-7734.

You can contact ED Pubs at its Web site, also: www.EDPubs.gov or at its email address: edpubs@inet.ed.gov.

If you request an application package from ED Pubs, be sure to identify this program or competition as follows: CFDA number 84.215N.

Individuals with disabilities can obtain a copy of the application package in an accessible format (e.g., braille, large print, audiotape, or compact disc) by contacting the person or team listed under Accessible Format in section VII of this notice.

2. a. Content and Form of Application Submission: Requirements concerning the content of an application, together with the forms you must submit, are in the application package for this competition.

The Department will be able to develop a more efficient process for reviewing grant applications if it has a better understanding of the number of entities that intend to apply for funding under this competition. Therefore, the Secretary strongly encourages each potential applicant to notify the Department of the applicant's intent to submit an application for funding by completing a web-based form. When completing this form, applicants will provide (1) the applicant organization's name and address, and (2) information on the competitive preference priority or priorities under which the applicant intends to apply. Applicants may access this form online at https://innovation.ed.gov/what-we-do/parental-options/promise-neighborhoods-pn/. Applicants that do not complete this form may still apply for funding.

Page Limit: The application narrative (Part III of the application) is where you, the applicant, address the selection criteria that reviewers use to evaluate your application. We recommend that you (1) limit the application narrative to 75 pages, and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

2. b. Submission of Proprietary Information: Given the types of projects that may be proposed in applications for the Promise Neighborhoods program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you feel is exempt from disclosure under Exemption 4. In the appropriate Appendix section of your application, under “Other Attachments Form,” please list the page number or numbers on which we can find this information. For additional information please see 34 CFR 5.11(c).

3. Submission Dates and Times:

Applications Available: July 21, 2017.

Deadline for Notice of Intent to Apply: August 21, 2017.

Date of Pre-Application Webinar: Promise Neighborhoods intends to hold pre-application webinars to provide technical assistance to interested applicants. Detailed information regarding pre-application webinar times will be provided on the Web site at https://innovation.ed.gov/what-we-do/parental-options/promise-neighborhoods-pn/.

Deadline for Transmittal of Applications: September 5, 2017.

Applications for grants under this competition must be submitted electronically using the Grants.gov Apply site (Grants.gov). For information (including dates and times) about how to submit your application electronically, or in paper format by mail or hand delivery if you qualify for an exception to the electronic submission requirement, please refer to Other Submission Requirements in section IV of this notice. We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: November 3, 2017.

4. Intergovernmental Review: This program is subject to Executive Order 12372 and the regulations in 34 CFR part 79. Information about Intergovernmental Review of Federal Programs under Executive Order 12372 is in the application package for this competition.

Applicants that operate a school in a neighborhood served by a grant program must provide such school with the operational flexibility, including autonomy over staff, time, and budget, needed to effectively carry out the activities described in this Notice.

Grantees cannot, in carrying out activities to improve early childhood education programs, use Promise Neighborhoods funds to carry out the following activities:

(1) Assessments that provide rewards or sanctions for individual children or teachers.

(2) A single assessment that is used as the primary or sole method for assessing program effectiveness.

(3) Evaluation of children, other than for the purposes of improving instruction, classroom environment, professional development, or parent and family engagement, or program improvement.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under Promise Neighborhoods, CFDA number 84.215N, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Promise Neighborhoods program at www.Grants.gov. You must search for the downloadable application package for this competition by the CFDA number. Do not include the CFDA number's alpha suffix in your search (e.g., search for 84.215, not 84.215N).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, flattened Portable Document Format (PDF), meaning any fillable PDF documents must be saved as flattened non-fillable files. Therefore, do not upload an interactive or fillable PDF file. If you upload a file type other than a read-only, flattened PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. There is no need to password protect a file in order to meet the requirement to submit a read-only flattened PDF. And, as noted above, the Department will not review password protected files.

• Your electronic application must comply with any page limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, flattened PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Adrienne Hawkins, U.S. Department of Education, 400 Maryland Avenue SW., Room 4W256, Washington, DC 20202-5970. FAX: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.215N), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.215N), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria are either from 34 CFR 75.210 or established in accordance with section 437(d)(1) of GEPA, 20 U.S.C. 1232(d)(1). All of the selection criteria are listed in this section and in the application package. The maximum score for all of the selection criteria is 100 points. The maximum score for each criterion is included in parentheses following the title of the specific selection criterion. Each criterion also includes the factors that reviewers will consider in determining the extent to which an applicant meets the criterion.

Points awarded under these selection criteria are in addition to any points an applicant earns under the competitive preference priorities in this notice. The maximum score that an application may receive under the competitive preference priorities and the selection criteria is 108 points.

(a) Need for the Project (15 points).

The Secretary considers the need for the proposed project. In determining the need for the proposed project, the Secretary considers:

(1) The magnitude or severity of the problems to be addressed by the proposed project as described by indicators of need (as defined in this notice) and other relevant indicators identified in part by the needs assessment and segmentation analysis (as defined in this notice);

(2) The extent to which the geographically defined area has been described; and

(3) The extent to which specific gaps or weaknesses in services, infrastructure, or opportunities have been identified and will be addressed by the proposed project, including the nature and magnitude of those gaps or weaknesses. (34 CFR 75.210)

(b) Quality of Project Design (30 points).

The Secretary reviews each application to determine the quality of the project design. In determining the quality of the design of the proposed project, the Secretary considers the following factors:

(1) The extent to which the applicant describes a plan to create a complete pipeline of services, including early learning through grade 12, college- and career-readiness, and family and community supports, without time and resource gaps, that will prepare all children in the neighborhood to attain an excellent education and successfully transition to college and a career, and that will significantly increase the proportion of students in the neighborhood that are served by the complete continuum to reach scale over time;

(2) The extent to which the methods of evaluation include the use of objective performance measures that are clearly related to the intended outcomes of the project and will produce quantitative and qualitative data to the extent possible (34 CFR 75.210); and

(3) The extent to which the proposed project is supported by strong theory (as defined in this notice) (34 CFR 75.210).

(c) Quality of Project Services (20 points).

The Secretary considers the quality of the services to be provided by the proposed project. In determining the quality of the project services, the Secretary considers:

(1) The quality and sufficiency of strategies for ensuring equal access and treatment for eligible project participants who are members of groups that have traditionally been underrepresented based on race, color, national origin, gender, age, or disability (34 CFR 75.210);

(2) The likelihood that the services to be provided by the proposed project will lead to improvement in the achievement of students as measured against rigorous academic standards (34 CFR 75.210); and

(3) The quality of the applicant's plan to establish formal and informal partnerships, including the alignment of the visions, theories of action, and theories of change described in its memorandum of understanding, and to create a system for holding partners accountable for performance in accordance with the memorandum of understanding.

(d) Quality of the Management Plan (20 points).

The Secretary considers the quality of the management plan for the proposed project. In determining the quality of the management plan for the proposed project, the Secretary considers the following factors:

(1) The adequacy of the management plan to achieve the objectives of the proposed project on time and within budget, including clearly defined responsibilities, timelines, and milestones for accomplishing project tasks (34 CFR 75.210); and

(2) The adequacy of the management plan's provisions on collecting, analyzing, and using data for decision-making, learning, continuous improvement, and accountability, including whether the applicant has a plan to build, adapt, or expand a longitudinal data system that integrates student-level data from multiple sources in order to measure progress while abiding by privacy laws and requirements, and ensuring that any systems built, adapted, or expanded upon includes essential security controls.

(e) Adequacy of Resources (15 points).

The Secretary considers the adequacy of resources for the proposed project. In determining the adequacy of resources for the proposed project, the Secretary considers:

(1) The extent to which the costs are reasonable in relation to the number of persons to be served and to the anticipated results and benefits (34 CFR 75.210);

(2) The extent to which the applicant demonstrates that it has the resources to operate the project beyond the length of the grant, including a multi-year financial and operating model and accompanying plan; the demonstrated commitment of any partners; evidence of broad support from stakeholders (e.g., State educational agencies, teachers' unions) critical to the project's long-term success; or more than one of these types of evidence (34 CFR 75.210); and

(3) The extent to which the applicant identifies existing neighborhood assets and programs supported by Federal, State, local, and private funds that will be used to implement pipeline services.

2. Review and Selection Process: The Department will screen applications submitted in accordance with the requirements in this notice, and will determine which applications have met eligibility and other statutory requirements.

The Department will use independent reviewers from various backgrounds and professions including: Pre-kindergarten through grade 12, teachers and principals, college and university educators, researchers and evaluators, social entrepreneurs, strategy consultants, grant makers and managers, and others with community development and education expertise. The Department will thoroughly screen all reviewers for conflicts of interest to ensure a fair and competitive review process.

Reviewers will read, prepare a written evaluation of, and score the applications assigned to their panel, using the selection criteria provided in this notice.

The Secretary prepares a rank order of applications for each absolute priority based solely on the evaluation of their quality according to the selection criteria and competitive preference priority points. The Department may use more than one tier of reviews in determining grantees, including possible site visits for applicants. Additional information about the review process will be posted on the Department's Web site.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b). If awarded a grant under this competition, information about the number and percentage of children in the neighborhood who are served by the grant program, including a description of the number and percentage of children accessing each support or service offered as part of the pipeline services; and information relating to the performance metrics must be stated in each annual report.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Integrity and Performance System: If you are selected under this competition to receive an award that over the course of the project period may exceed the simplified acquisition threshold (currently $150,000) under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. Performance Measures: The Secretary has established performance indicators (i.e., performance measures) for Promise Neighborhoods. Performance indicators established by the Secretary include improved academic and development outcomes for children, including indicators of school readiness, high school graduation, postsecondary education and career readiness, and other academic and developmental outcomes. These outcomes promote data-driven decision-making and access to a community-based continuum of high quality services for children living in the most distressed communities of the United States, beginning at birth. All grantees will be required to submit data annually against these performance measures as part of their annual performance report.

5. Continuation Awards: In making a continuation award, the Secretary considers, among other things: Whether a grantee has made substantial progress in achieving the goals and objectives of the project; whether the grantee has expended funds in a manner that is consistent with its approved application and budget; and, the performance of the grantee in meeting the targets established for each performance indicator identified in the grantee's approved data plan.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: July 18, 2017.
Margo Anderson,
Acting Assistant Deputy Secretary for Innovation and Improvement.

[FR Doc. 2017-15359 Filed 7-20-17; 8:45 am]

BILLING CODE 4000-01-P